FEDERAL HOUSING FINANCE AGENCY

[No. 2018-N-10]

Notice of Availability of the Federal Housing Finance Agency Information Quality Guidelines

AGENCY: Federal Housing Finance Agency.

ACTION: Notice.

SUMMARY: Notice is hereby given that the Federal Housing Finance Agency (FHFA) has made available its Information Quality Guidelines pursuant to the requirements of Office of Management and Budget (OMB) Guidelines for Ensuring and Maximizing the Quality, Objectivity, Utility and Integrity of Information Disseminated by Federal Agencies, dated February 22, 2002. The purpose of this notice is to publish the location of the Guidelines on the FHFA website at https://www.fhfa.gov/AboutUs/InformationQuality.

FOR FURTHER INFORMATION CONTACT: Kevin Winkler, Chief Information Officer, (202) 649-3600, Kevin.Winkler@fhfa.gov; or Susan L. Sallaway, Records Officer, (202) 649-3674, Susan.Sallaway@fhfa.gov, (these are not toll-free numbers), Federal Housing Finance Agency, Constitution Center, 400 Seventh Street SW, Washington, DC 20219.

SUPPLEMENTARY INFORMATION: Section 515 of the Treasury and General Government Appropriations Act for FY 2001, Public Law 106-554. This law directed the Office of Management and Budget (OMB) to issue government-wide guidelines for the establishment of information quality programs, and for Federal agencies to issue their own guidelines for ensuring and maximizing the quality, objectivity, utility, and integrity of information disseminated to the public. The OMB guidelines were published in the Federal Register on February 22, 2002 (67 FR 8459).

The OMB guidelines instructed Federal agencies that are subject to the Paperwork Reduction Act to publish a notice of the availability of their Information Quality Guidelines in the Federal Register and to post their Information Quality Guidelines on their websites.

FHFA's Information Quality Guidelines were issued in December 2017, upon approval by OMB, and are posted on FHFA's website at https://www.fhfa.gov/AboutUs/InformationQuality.

Dated: September 27, 2018.
Kevin Winkler,
Chief Information Officer, Federal Housing Finance Agency.

[FR Doc. 2018-21533 Filed 10-2-18; 8:45 am]

BILLING CODE 8070-01-P